DEPARTMENT OF JUSTICE

Notice of Lodging of Consent Decree Under the Comprehensive Environmental Response, Compensation, and Liability Act

Notice is hereby given that on April 26, 2000, a proposed Consent Decree in United States v. Harvey GRQ, Inc., et al., Civil Action No. 00 C 2505, was lodged with the United States District Court for the Northern District of Illinois.

The Consent Decree settles an action brought under section 107 of the Comprehensive Environmental Response, Compensation and Liability Act, 42 U.S.C. 9601, et seq., (“CERCLA”) for the recovery of past costs incurred by the United States in responding to releases or threatened releases of hazardous substances at the Harvey GRQ Site, located in the Villages of Harvey and Dixmoor, Illinois. The proposed settlement set forth in the Consent Decree addresses the liability of four defendants in this action, each of which has been named as an owner and/or operator of the Site. Under the terms of the proposed decree, the settling defendants will pay the United States a total of $700,000 in settlement of the United States' past costs claims against them.

The Department of Justice will receive, for a period of thirty (30) days from the date of this publication, comments relating to the Consent Decrees. Comments should be addressed to the Assistant Attorney General for the Environment and Natural Resources Division, Department of Justice, P.O. Box 7611, Washington, DC 20044-7611, and should refer to United States v. Harvey GRQ Inc., et al., D.J. Ref. 90-11-3-06600.

The Consent Decree may be examined at the office of the United States Attorney, Northern District of Illinois, 219 S. Dearborn St., 5th Floor, Chicago, Illinois 60604, and at United States Environment Protection Agency Region V, 77 West Jackson Boulevard, Chicago, Illinois 60604. A copy of the proposed consent decree may also be obtained by mail from the Department of Justice Consent Decree Library, P.O. Box 7611, Washington, DC. 20044. In requesting a copy please refer to the referenced case and enclose a check in the amount of $5.25 (25 cents per page reproduction costs), payable to the Consent Decree Library.

Bruce S. Gelber,
Deputy Chief, Environmental Enforcement Section, Environment and Natural Resources Division.

[FR Doc. 00-11372 Filed 5-5-00; 8:45 am]

BILLING CODE 4410-15-M